DEPARTMENT OF HEALTH AND HUMAN SERVICES

National Institutes of Health

National Library of Medicine; Amended Notice of Meeting

Notice is hereby given of a change in the meeting of the Working Group on Chemical Information Resource Coordination, December 19, 2005, 8 a.m. to 4 p.m., National Library of Medicine, Building 38, Board Room, 2nd Floor, 8600 Rockville Pike, Bethesda, MD 20894, which was published in the Federal Register on December 8, 2005, 70 FR 73018.

The meeting location has changed to the National Institutes of Health, Building 45, Conference Room A, 8600 Rockville Pike, Bethesda, Maryland 20814. The meeting is open to the public.

Dated: December 8, 2005.
Anna Snouffer,
Acting Deputy Director, Office of Federal Advisory Committee Policy.

[FR Doc. 05-24123 Filed 12-15-05; 8:45 am]

BILLING CODE 4140-01-M